DEPARTMENT OF AGRICULTURE

Rural Utilities Service

Notice of Intent; Request for Comments on Adoption of the U.S. Army Corps of Engineers' Bayou Meto Basin General Reevaluation Report and Final Environmental Impact Statement, Arkansas, Jefferson, Lonoke, Prairie and Pulaski Counties, Arkansas

AGENCY: Rural Utilities Service, USDA.

ACTION: Notice of Intent To Adopt Reevaluation Report and Final Environmental Impact Statement; Request for Comments.

SUMMARY: The Rural Utilities Service (RUS) an agency of the United States Department of Agriculture (USDA) is giving notice of its intent to adopt the U.S. Army Corps of Engineers' (USACE) existing general reevaluation report and final environmental impact statement (GRR/EIS) for the Bayou Meto Basin, Arkansas project (project). RUS is considering providing funding to the applicant, the Bayou Meto Water Management District (BMWMD), to construct a portion of the project consisting of activities that have been identified, designed and reviewed under the USACE's existing GRR/EIS. Based on RUS' independent evaluation, adoption of the GRR/EIS would meet the Council on Environmental Quality (CEQ) and RUS regulations and guidance for implementing the National Environmental Policy Act (NEPA). To fulfill our NEPA requirements and support a funding decision, we are recirculating the GRR/EIS for written public comment via this notice, in accordance with CEQ and RUS adoption guidelines.

DATES: Written comments on this Notice must be received on or before May 30, 2014.

ADDRESSES: Send written comments to: Mark S. Plank, Director, Engineering and Environmental Staff, USDA Rural Utilities Service, 1400 Independence Ave. SW., Stop 1571, Room 2242-S, Washington, DC 20250. The GRR/EIS and related documents referenced in this Notice are available at http://www.mvm.usace.army.mil/Missions/Projects/BayouMetoBasinProject/Reports.aspx. To the extent practicable, these documents can be made available for public review in alternative formats by contacting the individual listed under FOR FURTHER INFORMATION to request documents in alternative formats. RUS provides this notice under regulations implementing NEPA and invite the public to review the GRR/EIS during the 30-day comment period (see DATES). Before including your address, phone number, email address or other personal identifying information in your comment, please be aware that your entire comment—including personal identifying information—may be made publicly available at any time. RUS will endeavor to withhold personal identifying information from public review upon request, but we cannot guarantee that we will be able to do so.

As provided for pursuant to 36 CFR 800.2(d)(3), RUS is using this notice to comply with the requirement under 36 CFR 800.2(d) that the agency seek and consider the views of the public regarding effects to historic properties prior to making a decision on the project.

FOR FURTHER INFORMATION CONTACT: Richard Fristik, Senior Environmental Protection Specialist, USDA Rural Utilities Service, 1400 Independence Ave. SW., Stop 1571, Room 2240-S, Washington, DC 20250, Telephone: (202) 720-5093, Facsimile: (202) 690-0649, or email: richard.fristik@wdc.usda.gov.

SUPPLEMENTARY INFORMATION: RUS' proposed funding action is for activities already identified, designed and reviewed under the GRR/EIS. Adoption and recirculation for public written comment of the GRR/EIS fulfills RUS' requirements under the CEQ (40 CFR 1506.3(b)) and Agency (7 CFR 1794.72(b)) NEPA implementing regulations. Recent CEQ guidance encourages agencies to “. . . coordinate and take appropriate advantage of existing documents and studies, including through adoption and incorporation by reference” as a means of improving NEPA efficiency (see “Improving the Process for Preparing Efficient and Timely Environmental Reviews under the National Environmental Policy Act” at http://ceq.hss.doe.gov/current_developments/docs/Improving_NEPA_Efficiencies_06Mar2012.pdf).

The overall Bayou Meto project area is located in east central Arkansas and is bounded approximately on the west and south by the Arkansas River and the city of England, and on the north and east by the cities of Lonoke, Carlisle, Stuttgart and Reydell. The entire study area encompasses 864,000 acres. The proposed project for which RUS funding would be provided consists of the Indian Bayou Service Area, a narrow (north to south) 94,000-acre area on the western edge of the overall Bayou Meto area.

The USACE prepared the following documents to meet their federal requirements:

1. “Grand Prairie Region and Bayou Meto Basin, Arkansas Project, Bayou Meto Basin, Arkansas General Reevaluation Report, Volume 1—Main Report & Final Environmental Impact Statement (EIS),” November 2006, Revised March 2007, (GRR/EIS).

2. “Record of Decision, Bayou Meto Basin, Arkansas,” November 2007, (ROD).

3. “Final Environmental Assessment, Bayou Meto Basin, Arkansas, Post General Reevaluation Design Changes,” July 2010, (EA).

4. “Finding of No Significant Impact, Bayou Meto Basin, Arkansas, Post General Reevaluation Design Changes,” July 2010, (FONSI).

The particular authority under which the overall project is authorized and funded requires a 65 percent federal/35 percent non-federal cost share. Both the BMWMD and the Arkansas Natural Resources Commission (ANRC) are the non-federal partners. RUS funding would comprise a portion of the non-federal cost share for the Indian Bayou Service Area. The ANRC is the state agency with legal authority and responsibility for protection and management of Arkansas' water resources, including groundwater. The ANRC strongly supports the implementation of projects that develop surface water resources to supplement and protect diminishing groundwater reserves. The Bayou Meto Basin, Arkansas project was developed to be consistent with the Arkansas State Water Plan. The ANRC, in partnership with the BMWMD, has indicated their intent to serve as local sponsor for the project and assume the responsibilities of local cooperation.

Numerous other studies have been completed that document the water supply and groundwater depletion issues (the primary problem that the project addresses), starting as far back as the late 1940's. Continued withdrawals at the current rate will deplete the alluvial and Sparta aquifers such that they will no longer be viable sources of irrigation water, and agriculture as it is now practiced will be impossible. The project was re-authorized, and the scope expanded, in the Water Resources Development Act of 1996. The general reevaluation was conducted to fully evaluate and determine the best plan of improvement for flood control, agricultural water supply, and waterfowl management. Alternatives were developed and analyzed using USACE planning criteria to develop a plan consisting of measures that best meet the area's needs. Once the plan was identified, detailed engineering and design studies were completed to the level of detail required for preparation of a baseline cost estimate and schedule for implementation.

The following were identified as planning objectives:

1. Protect and preserve the alluvial aquifer.

2. Maximize the use of water conservation.

3. Provide supplemental water supply to meet the irrigation water needs of the

Bayou Meto Basin.

4. Restore and enhance waterfowl habitat.

5. Restore native vegetation.

6. Maintain long-range productivity of wetlands and forests.

7. Minimize cost and maximize outputs.

Relief from flooding problems in the southern portion of the project area is also an important component of this study. Significant annual flooding occurs on farmland and within the Bayou Meto Wildlife Management Area (WMA), resulting in lost income and stress on forest habitat (excess water cannot drain from the WMA). Waterfowl management is also an important objective. Much of the native habitat in the Bayou Meto Basin has been cleared for agriculture, limiting available habitat for waterfowl and isolating flora and fauna in relatively small patches.

Therefore, the development of a waterfowl management (WM) plan that focused on providing substantial waterfowl benefits through habitat restoration was developed. The WM plan also benefits tributary stream fisheries and aquatic organisms, and would substantially increase the amount of bottomland hardwood forest and other wildlife habitat within the region.

The GRR/EIS evaluates five alternatives for meeting the identified problems and opportunities: No Action (Alternative WS1); Conservation with Storage (Alternative WS2); 1650 cubic feet per second (cfs) Import System Plus Conservation and Storage (Alternative WS3); 1750 (cfs) Import System Plus Conservation and Storage (Alternative WS4); and, 1850 (cfs) Import System Plus Conservation and Storage (Alternative WS5). The selected plan, which maximized National Economic Development (NED) and environmental (restoration) benefits, consisted of Water Supply (WS) Alternative 4B, Flood Control (FC) Alternative 2A, and the Waterfowl Management (WM) Plan. In addition to waterfowl, habitat benefits would accrue to a variety of other game and non-game species through creation or enhancement of bottomland hardwood, herbaceous wetland/prairie, moist soil, and riparian buffer habitats.

In order to comply with Section 106 of the National Historic Preservation Act (16 U.S.C. 470f) and its implementing regulations, “Protection of Historic Properties” (36 CFR part 800), the USACE, acting as the lead agency for Section 106 review, the Natural Resources Conservation Service, the Advisory Council on Historic Preservation, and the Arkansas State Historic Preservation Officer executed a Programmatic Agreement (PA) on January 13, 2009. That PA, which is titled, “Programmatic Agreement Among the U.S. Army Corps of Engineers, Memphis District, the Natural Resources Conservation Service, the Arkansas State Historic Preservation Officer, Quapaw Tribe of Oklahoma, Cherokee Nation of Oklahoma, Mississippi Band of Choctaw Indians, Caddo Nation of Oklahoma, Osage Nation of Oklahoma, United Keetoowah Band of Cherokee Indians in Oklahoma, Thlopthlocco Tribal Town, Alabama-Quassarte Tribal Town, Other Signatory and Concurring Tribes, Bayou Meto Water Management District, the Arkansas Natural Resources Commission and the Advisory Council on Historic Preservation Regarding Implementation of the Bayou Meto Basin Arkansas Project Pursuant to the National Historic Preservation Act and Other Authorities,” establishes the level of effort needed for the identification and treatment of affected historic properties.

Since execution of the PA in 2009, the USACE has conducted several archeological studies of the area of potential effects. RUS, which has designated the USACE as the lead agency pursuant to 36 CFR 800.2(a)(2), will review the studies completed to date under the terms of the 2009 PA to determine how to proceed most appropriately to conclude Section 106 review.

The proposed RUS decision to provide funding for the Indian Bayou Service Area portion of the Bayou Meto Basin project is a federal action subject to NEPA and related federal statutes. After an independent review, RUS finds that the GRR/EIS and Record of Decision (ROD) sufficiently addresses reasonable alternatives and the potential environmental effects of the activities proposed to be funded by RUS. The GRR/EIS meets the requirements of USDA and RUS NEPA procedures and guidance, and would be appropriate for adoption.

RUS may receive additional requests for financial assistance for similar portions of the Bayou Meto Basin project. If additional requests are received it is the intent of the agency to issue additional Records of Decision without additional notices to adopt the USACE's GRR/EIS.

Based on the information summarized in this notice, RUS intends to adopt the USACE's final GRR/EIS to enable Agency NEPA compliance for the proposed Federal funding decision. After the close of the comment period, RUS anticipates the preparation and issuance of our Record of Decision to occur in May/June 2014. As required, RUS will conclude review under 36 CFR part 800 prior to the issuance of the Record of Decision.

Dated: April 8, 2014.
Jacqueline Ponti-Lazaruk,
Assistant Administrator, Rural Utilities Service.

[FR Doc. 2014-09831 Filed 4-29-14; 8:45 am]

BILLING CODE P